FEDERAL COMMUNICATIONS COMMISSION

[DA 01-1300]

Auction Filing Window for New Television Stations

AGENCY: Federal Communications Commission.

ACTION: Notice.

SUMMARY: This document announces an auction filing window for a new analog television stations.

DATES: The window filing opportunity begins June 25, 2001, and closes June 29, 2001. Those wishing to participate in the auction, including those with pending applications for these stations, must file a short form application (FCC Form 175) by 5:30 p.m. Eastern Standard Time, June 29, 2001.

ADDRESSES: FCC Form 175 Filing, Auction No. 82, Federal Communications Commission, Wireless Telecommunications Bureau, Auctions and Industry Analysis Division, 1270 Fairfield Road, Gettysburg, PA 17325-7245.

FOR FURTHER INFORMATION CONTACT: Shaun Maher, Video Services Division, Mass Media Bureau at (202) 418-1600.

SUPPLEMENTARY INFORMATION: This is a summary of a Public Notice released May 25, 2001. It does not include attachments. The complete text of the Public Notice, including attachments, is available for public inspection and copying during normal business hours in the FCC Reference Center (Room CY-A257), 445 12th Street, SW, Washington, DC. It may also be purchased from the Commission's copy contractor, International Transcription Services, Inc. (ITS, Inc.) 1231 20th Street, NW, Washington, DC 20035, (202) 857-3800. It is also available on the Commission's web site at http://www.fcc.gov. The Mass Media Bureau and the Wireless Telecommunications Bureau announce an auction filing window for new analog television stations for the following channels and communities:

Ch. | City | State | File No. pending | Applicant
47 | Columbia | SC | BPCT-19960722KG | Fant Broadcast Development, LLC.
51 | Pittsfield | MA | BPCT-19960724LI | Pappas Telecasting of America.
34 | Magee | MS | BPCT-19960920LS | Marri Broadcasting, LP.
16 | Scottsbluff | NE | BPCT-19960111LO | Wyomedia Corporation.

The filing window will open on June 25, 2001 and close on June 29, 2001. As noted, for each of these stations, there is currently pending a long-form (FCC Form 301) application. Therefore, parties interested in filing for these stations should understand that it is likely that their application will be mutually exclusive with a previously-filed application and that selection among mutually exclusive applicants for these stations will be via the Commission's broadcast competitive bidding rules. See 47 CFR 73.5000 et seq.

Federal Communications Commission.
Roy J. Stewart,
Chief, Mass Media Bureau.

[FR Doc. 01-14007 Filed 6-1-01; 8:45 am]

BILLING CODE 6712-01-P